AGENCY FOR INTERNATIONAL DEVELOPMENT

Agency Information Collection Activities: Submission to the Office of Management and Budget (OMB) for Review and Approval; Comment Request

AGENCY: U.S. Agency for International Development (USAID).

ACTION: Notice of information collection.

SUMMARY: U.S. Agency for International Development (USAID), as part of its continuing effort to reduce paperwork and respondent burden, invites the general public and other Federal agencies to review and comment on the following new information collection, as required by the Paperwork Reduction Act of 1995. Comments are requested concerning; whether the proposed collection of information is necessary for the proper performance of the functions of the Agency, including whether the information shall have practical utility for managing USAID's Exchange Visitor program; the accuracy of USAID's estimate of the burden of the proposed collection of information; suggestions on how s to enhance the quality, utility, and clarity of the information to be collected; and ways to minimize the burden of the collection of information on respondents.

DATES: All comments should be submitted within 60 calendar days from the date of this publication.

ADDRESSES: Interested persons are invited to submit comments regarding the proposed information collection to Ethel Brooks, USAID, Bureau of Economic Growth, Education and Environment (E3)/Office of Education at ebrooks@usaid.gov.

FOR FURTHER INFORMATION CONTACT: Ethel Brooks, USAID, Bureau of Economic Growth, Education and Environment (E3)/Office of Education at ebrooks@usaid.gov or 202-712-4226.

SUPPLEMENTARY INFORMATION:

I. Abstract

In support of its development objectives and aim for self-reliance, USAID sponsors U.S.-based education and capacity strengthening programs for host country nationals, referred to as the Exchange Visitor (EV) Program. Exchange Visitors travel to the United States under a J-1 visa.

The USAID Bureau of Economic Growth, Education, and Environment, Office of Education (E3/ED) manages the Agency's J-1 visa designation and ensures the Agency's compliance with Department of Homeland Security (DHS) and Department of State (DoS) regulations contained in 22 CFR 62.1-90. The Office of Education collects Exchange Visitor data from USAID's overseas Missions and Implementers, and manages the Agency's EV approval process. USAID relies on data to fulfill a mandatory Agency function of providing the DHS, including Immigration and Customs Enforcement (ICE), and the DoS with information about host country nationals who study in the U.S. under USAID sponsorship. The referenced bio data forms are used to collect such data. The forms include a section for collecting data about the individuals': (a) Suitability for USAID sponsorship; (b) agreed upon commitment to return to the home country and use their newly acquired skills to help solve local development problems; (c) agreement to reimburse program costs if they fail to comply with USAID's and other U.S. Government Agencies Policy requirements; and (d) certification of dependents who accompany or visit EVs during their study in the U.S. USAID/Washington and Missions also use the data collected through these forms to monitor program performance and program completion, along with other management interventions. The main purpose is to enable the transfer of effective education and capacity interventions to host country governments while supporting U.S. national interests. The secondary purpose is to improve future planning and use of USAID resources. These objectives are aligned with Congressional requirements under the Foreign Assistance Act of 1961, as amended. They are also closely aligned with objectives of the Journey to Self-Reliance for countries where USAID operates.

II. Method of Collection

Electronic.

III. Data

Title: USAID program compliance and management information, including Conditions of Sponsorship for U.S. Activities; Exchange Visitors Biographical Data; Dependent Certification; Cost Repayment; and Conditions of Sponsorship for Third Country Training forms.

OMB Number: Not assigned.

Expiration Date: Three years from issuance date.

Type of Request: Forms Renewal.

Affected Public: Host country nationals whose study in the U.S. is funded by USAID.

Estimated Total Number of Affected Individual per Year: 1,500-2,000

Estimated Total Annual Burden: Less than 15 minutes per form, per person. Most forms are prepared only once at the inception of the EV's program and the form remains valid for the duration of the program. Note: The use of forms is situational, not all forms apply to every individual. For example, the Cost Repayment Form applies only to the small number of individuals who overstay their authorized time in the U.S. after completing their studies.

IV. Request for Comments

Comments are invited on: (1) Whether the proposed collection of information is necessary for the compliance and management of USAID-funded Exchange Visitor program; (2) the accuracy of USAID's estimate of the burden of the proposed collection of information; (3) ways to enhance the quality, utility, and clarity of the information to be collected; and (4) ways to minimize the burden of the collection of information on respondents. Comments submitted in response to this notice will be summarized and included in the request for OMB approval of this information collection. The comments will also become a matter of public record.

Stephen Kowal,
Deputy Director, Office of Education, U.S. Agency for International Development.

[FR Doc. 2019-19233 Filed 9-5-19; 8:45 am]

BILLING CODE 6116-02-P